NUCLEAR REGULATORY COMMISSION

[Docket No. 72-20; NRC-2025-0841]

U.S. Department of Energy Idaho Operations Office; Three Mile Island Unit 2 Independent Spent Fuel Storage Installation; License Amendment Application

AGENCY: Nuclear Regulatory Commission.

ACTION: Notice of docketing.

SUMMARY: The U.S. Nuclear Regulatory Commission (NRC) has received and docketed a license amendment application from the U.S. Department of Energy Idaho Operations Office (DOE or the licensee) for amendment of Special Nuclear Materials (SNM) License No. SNM-2508, for the Three Mile Island Unit 2 (TMI-2), reactor core in the TMI-2 independent spent fuel storage installation (ISFSI). The TMI-2 ISFSI is located at the Idaho National Laboratory within the perimeter of the Idaho Nuclear Technology and Engineering Center site in Scoville, Butte County, Idaho. The requested amendment would revise certain license conditions and technical specifications (TS) by changing the description of the DOE official who is responsible for the operation and nuclear safety of the TMI-2 ISFSI and for ensuring its compliance with NRC requirements, changing reference to a regulation and removing outdated language, adjusting references to relevant organizational components of DOE, and otherwise making clerical changes. The NRC will process the application in accordance with NRC regulations, as further explained in the supplementary information section of this notice.

DATES: February 19, 2026.

ADDRESSES: Please refer to Docket ID NRC-2025-0841 when contacting the NRC about the availability of information regarding this document. You may obtain publicly available information related to this document using any of the following methods:

• Federal Rulemaking Website: Go to https://www.regulations.gov and search for Docket ID NRC-2025-0841. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Kristina Banovac, Office of Nuclear Material Safety and Safeguards, U.S. Nuclear Regulatory Commission, Washington, DC 20555-0001; telephone: 301-415-7116; email: Kristina.Banovac@nrc.gov.

SUPPLEMENTARY INFORMATION:

I. Introduction

By letter dated November 21, 2024, DOE submitted to the NRC an application to amend the license and TS, for the TMI-2 ISFSI, located in Scoville, Butte County, Idaho. Special Nuclear Materials License No. SNM-2508 authorizes the licensee to receive, possess, store, and transfer canisters containing core debris and damaged spent nuclear fuel from the TMI-2 reactor, in addition to other authorized uses. The proposed amendment would revise the license and TS so that they explicitly designate the Manager for the Idaho Cleanup Project (ICP) as the DOE official who is responsible for the operation and nuclear safety of the TMI-2 ISFSI and for ensuring its compliance with NRC license conditions and regulatory requirements. Additionally, the proposed amendment would include an editorial change to TS 5.5.1.b regarding section 72.48 of title 10 of the Code of Federal Regulations (10 CFR) and remove outdated language. The changes requested further include title changes to refer to DOE ICP instead of DOE Idaho Operations Office (DOE-ID), and clerical changes throughout the document such as changes to spacing.

In an email to DOE dated January 8, 2026, the NRC notified DOE that the application was acceptable to begin a detailed review. The NRC's Office of Nuclear Materials Safety and Safeguards has docketed this application under Docket No. 72-20, and the NRC is issuing this notice of docketing as authorized and required by 10 CFR 72.16(e). The NRC will approve the license amendment if it finds that the application complies with the standards and requirements of the Atomic Energy Act of 1954, as amended, and the NRC's regulations, and the NRC will make findings consistent with the National Environmental Policy Act and 10 CFR part 51. These findings will be documented in a safety evaluation report. The NRC may issue either a notice of hearing or a notice of proposed action and opportunity for hearing in accordance with 10 CFR 72.46(b)(1) or, if a determination is made that the amendment does not present a genuine issue as to whether the health and safety of the public will be significantly affected, take immediate action on the amendment in accordance with 10 CFR 72.46(b)(2) and then promptly provide notice of the action taken and an opportunity for interested persons to request a hearing on whether the action should be rescinded or modified.

II. Availability of Documents

The documents identified in this notice are available to interested persons through ADAMS.

Document description | ADAMS accession No.
DOE Letter—License Amendment Request to Update the Licensee Designation of Authority Title for the Three Mile Island, Unit 2, Independent Spent Fuel Storage Installation, Docket 72-20, Materials License No. SNM-2508 (CLN240550), dated November 21, 2024 | ML24326A350 (Package).
NRC Email—Acceptance of Department of Energy, Idaho Cleanup Project License Amendment Request to Update the Licensee Designation of Authority Title for the Three Mile Island Unit 2 Independent Spent Fuel Storage Installation, dated January 8, 2026 | ML26008A286.

Dated: February 13, 2026.
For the Nuclear Regulatory Commission.
Yoira Diaz-Sanabria,
Chief, Storage and Transportation Licensing Branch, Division of Spent Fuel Management, Office of Nuclear Material Safety and Safeguards.

[FR Doc. 2026-03245 Filed 2-18-26; 8:45 am]

BILLING CODE 7590-01-P